DEPARTMENT OF STATE

[Public Notice No. 3213]

Shipping Coordinating Committee, Subcommittee for the Prevention of Marine Pollution; Meeting Notice

The Subcommittee for the Prevention of Marine Pollution, a subcommittee of the Shipping Coordinating Committee, will conduct an open meeting on Tuesday, February 29, 2000, at 9:30 AM in Room 2415, U.S. Coast Guard Headquarters, 2100 Second Street, SW, Washington, DC.

The purpose of this meeting will be to review the agenda items to be considered at the forty-fourth session of the Marine Environment Protection Committee (MEPC 44) and the agenda items of the Conference on International Co-operation on Preparedness and Response to Pollution Incidents by Hazardous and Noxious Substances (the Conference) of the International Maritime Organization (IMO). MEPC 44 and the Conference will be held in conjunction with each other from March 6-15, 2000. Proposed U.S. positions on the agenda items for MEPC 44 and the Conference will be discussed.

The major items for discussion for MEPC 44 will begin at 9:30 AM and include the following:

a. Harmful effects of the use of anti-fouling paints for ships;

b. Harmful aquatic organisms in ballast water;

c. Inadequacy of reception facilities;

d. Consideration and adoption of amendments to mandatory instruments;

e. Identification and protection of Special Areas and Particularly Sensitive Sea Areas;

f. Prevention of air pollution from ships;

g. Interpretation and amendments of MARPOL 73/78 and related Codes;

h. Promotion of implementation and enforcement of MARPOL 73/78 and related Codes; and

i. Recycling of ships.

At the conclusion of the MEPC 44 discussion, the major item for the Conference, “Consideration and adoption of the Protocol on Preparedness, Response and Co-operation to Pollution Incidents by Hazardous and Noxious Substances, 2000,” will be discussed.

Members of the public may attend this meeting up to the seating capacity of the room. For further information or documentation pertaining to the meeting, contact Lieutenant Commander John Meehan, U.S. Coast Guard Headquarters (G-MSO-4), 2100 Second Street, SW, Washington, DC 20593-0001; Telephone: (202) 267-2714.

Dated: February 3, 2000.
Stephen M. Miller,
Executive Secretary, Shipping Coordinating Committee.

[FR Doc. 00-3246 Filed 2-10-00; 8:45 am]

BILLING CODE 4710-07-P